DEPARTMENT OF STATE

[Public Notice 11233]

30-Day Notice of Proposed Information Collection: Medical Examination for Visa or Refugee Applicant

ACTION: Notice of request for public comment and submission to OMB of proposed collection of information.

SUMMARY: The Department of State is seeking Office of Management and Budget (OMB) approval for the information collections described below. In accordance with the Paperwork Reduction Act of 1995 and implementing OMB guidance, we are requesting comments on this collection from all interested individuals and organizations. The purpose of this notice is to allow 30 days for public comment.

DATES: Submit comments up to November 23, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Megan Herndon, Senior Regulatory Coordinator, Visa Services, Bureau of Consular Affairs, at (202) 485-7586 or PRA_BurdenComments@state.gov.

SUPPLEMENTARY INFORMATION:

• Title of Information Collection: Medical Examination for Visa or Refugee Applicant.

• OMB Control Number: 1405-0113.

• Type of Request: Revision of a Currently Approved Collection.

• Originating Office: CA/VO.

• Form Number: Forms DS-2054, DS-3030, DS-3025, DS-3026.

• Respondents: Visa and Refugee Applicants.

• Estimated Number of Respondents: 110,412.

• Estimated Number of Responses: 110,412.

• Average Time per Response: 1 hour.

• Total Estimated Burden Time: 110,412 annual hours.

• Frequency: Once per respondent.¹

¹ The majority of applicants only need to complete medical examinations, and therefore these forms once. However, medical exams are valid for a period of three to six months from the examination date. Therefore, if an applicant's medical examination expires prior to travel, then the applicant may need to undergo a new medical examination and therefore complete the forms more than once.

• Obligation to respond: Required to Obtain or Retain a Benefit.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms for this collection are completed by panel physicians for refugees, aliens seeking immigrant visas, and for some aliens seeking nonimmigrant visas to the United States. The collection records medical information necessary to determine whether refugees or visa applicants have medical conditions affecting the applicant's eligibility for a visa, or affecting the public health and requiring treatment.

Methodology

A panel physician, contracted by the consular post, in accordance with instructions issued by the Centers for Disease Control and Prevention (“CDC”), performs the medical examination of the applicant and completes the forms. Upon completing the applicant's medical examination, the examining panel physician submits a report to the consular officer on the DS-2054, Medical Examination for Immigrant or Refugee Applicant, and associated worksheets. The entire medical package (all forms that comprise the panel physician medical examination) for visa applicants identified by a panel physician as having a CLASS A or CLASS B medical condition is shared with CDC, in paper form or electronically. The only documentation related to the panel physician examination that is not shared with CDC are the X-ray results, which panel physicians provide directly to the applicants and are not a part of the visa package. None of the medical package for visa applicants who are not identified as having a CLASS A or CLASS B medical condition is systematically shared with CDC. On a case by case basis, information from the medical package could be shared with CDC if specific information is necessary for the administration or enforcement of U.S. law, consistent with INA 222(f), 8 U.S.C. 1202(f).

Edward J. Ramotowski,
Deputy Assistant Secretary, Bureau of Consular Affairs, Department of State.

[FR Doc. 2020-23495 Filed 10-22-20; 8:45 am]

BILLING CODE 4710-06-P